Memorandum of June 14, 2004

Certification Concerning U.S. Participation in the United

Nations Stabilization Mission in Haiti Consistent with Section 2005 of the American Servicemembers' Protection Act

Memorandum for the Secretary of State

Consistent with section 2005 of the American Servicemembers' Protection Act of 2002 (Public Law 107-206; 22 U.S.C. 7421 et seq.), concerning the participation of members of the Armed Forces of the United States in certain U.N. peacekeeping and peace enforcement operations, I hereby certify that members of the U.S. Armed Forces participating in the United Nations Stabilization Mission in Haiti (MINUSTAH) are without risk of criminal prosecution or other assertion of jurisdiction by the International Criminal Court because Haiti has entered into an agreement in accordance with Article 98 of the Rome Statute preventing the International Criminal Court from proceeding against members of the Armed Forces of the United States present in that country.

You are authorized and directed to submit this certification to the Congress and arrange for its publication in the Federal Register.

B

THE WHITE HOUSE,

Washington, June 14, 2004.

[FR Doc. 04-13952

Filed 6-17-04; 8:45 am]

Billing code 4710-10-P